DEPARTMENT OF COMMERCE

International Trade Administration

[A-533-838, A-570-892, C-533-839]

Carbazole Violet Pigment 23 From India and the People's Republic of China: Continuation of Antidumping and Countervailing Duty Orders

AGENCY: Enforcement and Compliance, International Trade Administration, Department of Commerce.

SUMMARY: As a result of the determinations by the Department of Commerce (Commerce) and the International Trade Commission (ITC) that revocation of the antidumping duty (AD) orders on carbazole violet pigment 23 (CVP-23) from India and the People's Republic of China (China) and the countervailing duty (CVD) order on CVP-23 from India would likely lead to continuation or recurrence of dumping, net countervailable subsidies, and material injury to an industry in the United States, Commerce is publishing a notice of continuation of the AD and CVD orders.

DATES: Applicable June 15, 2021.

FOR FURTHER INFORMATION CONTACT: Marc Castillo or Margaret Collins, AD/CVD Operations Office VI, Enforcement and Compliance, International Trade Administration, U.S. Department of Commerce, 1401 Constitution Avenue NW, Washington, DC 20230; telephone: (202) 482-0519 or (202) 482-6250, respectively.

SUPPLEMENTARY INFORMATION:

Background

On December 29, 2004, Commerce published in the Federal Register the AD orders on CVP-23 from India and China, and the CVD order on CVP-23 from India.¹ On October 1, 2020, Commerce initiated, and the ITC instituted, five-year (sunset) reviews of the Orders pursuant to section 751(c) of the Tariff Act of 1930, as amended (the Act).² On February 5, 2021, and February 9, 2021, Commerce published in the Federal Register the results of its third expedited sunset reviews of the Orders on CVP-23 from India and China.³ As a result of its reviews, Commerce determined that revocation of the Orders would likely lead to a continuation or recurrence of dumping and of countervailable subsidies and, therefore, notified the ITC of the magnitude of the margins of dumping and subsidy rates likely to prevail should the Orders be revoked.⁴

¹ See Notice of Amended Final Determination of Sales at Less Than Fair Value and Antidumping Duty Order: Carbazole Violet Pigment 23 from India, 69 FR 77988 (December 29, 2004); and Antidumping Duty Order: Carbazole Violet Pigment 23 from the People's Republic of China, 69 FR 77987 (December 29, 2004); and Notice of Countervailing Duty Order: Carbazole Violet Pigment 23 from India, 69 FR 77995 (December 29, 2004) (collectively, the Orders).

² See Initiation of Five-Year (“Sunset”) Reviews, 85 FR 61928 (October 1, 2020); and Carbazole Violet Pigment 23 From China and India; Institution of Five-Year Reviews, 85 FR 61977 (October 1, 2020).

³ See Carbazole Violet Pigment 23 from India and the People's Republic of China: Final Results of Expedited Third Sunset Review of the Antidumping Duty Orders, 86 FR 8340 (February 5, 2021); and Carbazole Violet Pigment 23 From India: Final Results of the Expedited Third Five-Year Sunset Review of the Countervailing Duty Order, 86 FR 8764 (February 9, 2021).

⁴ Id.

On June 1, 2021, the ITC published its determination, pursuant to section 751(c) of the Act, that revocation of the Orders would likely lead to a continuation or recurrence of material injury to an industry in the United States within a reasonably foreseeable time.⁵

⁵ See Carbazole Violet Pigment 23 from China and India, 86 FR 30331 (June 7, 2021); see also ITC's Letter, dated June 1, 2021.

Scope of the Orders

The merchandise subject to the Orders is CVP-23, identified as Color Index Number 51319 and Chemical Abstract Number 6358-30-1, with the chemical name of diindolo [3,2-b:′2′-m] ⁶ triphenodioxazine, 8,18-dicholor-5, 15-diethyl-5, 15-dihydro-, and molecular formula of C34H22Cl2N4O2. The subject merchandise includes the crude pigment in any form (e.g., dry powder, paste, wet cake) and finished pigment in the form of presscake and dry color. Pigment dispersions in any form (e.g., pigment dispersed in oleoresins, flammable solvents, water) are not included within the scope of the Orders. The merchandise subject to the Orders is classifiable under subheading 3204.17.90.40 of the Harmonized Tariff Schedule of the United States (HTSUS). Although the HTSUS subheadings are provided for convenience and customs purposes, our written description of the scope of the Orders is dispositive.

⁶ The bracketed section of the product description, [3,2-b:3′,2′-m], is not business proprietary information. In this case, the brackets are simply part of the chemical nomenclature. See the Orders.

Continuation of the Orders

As a result of the determinations by Commerce and the ITC that revocation of the Orders would likely lead to a continuation or recurrence of dumping and net countervailable subsidies, as well as material injury to an industry in the United States, pursuant to section 751(d)(2) of the Act, Commerce hereby orders the continuation of the Orders. U.S. Customs and Border Protection will continue to collect AD and CVD cash deposits at the rates in effect at the time of entry for all imports of subject merchandise.

The effective date of the continuation of the Orders will be the date of publication in the Federal Register of this notice of continuation. Pursuant to section 751(c)(2) of the Act and 19 CFR 351.218(c)(2), Commerce intends to initiate the next five-year reviews of the Orders not later than 30 days prior to the fifth anniversary of the effective date of continuation.

Administrative Protective Order (APO)

This notice also serves as the only reminder to parties subject to APO of their responsibility concerning the return, destruction, or conversion to judicial protective order of proprietary information disclosed under APO in accordance with 19 CFR 351.305(a)(3). Failure to comply is a violation of the APO which may be subject to sanctions.

Notification to Interested Parties

These five-year (sunset) reviews and this notice are in accordance with section 751(c) and (d)(2) of the Act and published pursuant to section 777(i)(1) of the Act and 19 CFR 351.218(f)(4).

Dated: June 9, 2021.
Christian Marsh,
Acting Assistant Secretary for Enforcement and Compliance.

[FR Doc. 2021-12532 Filed 6-14-21; 8:45 am]

BILLING CODE 3510-DS-P